INTERNATIONAL TRADE COMMISSION

[USITC SE-05-030]

Government in the Sunshine Act Meeting Notice

Agency Holding the Meeting: United States International Trade Commission.

Time and Date: October 3, 2005 at 2 p.m.

Place: Room 101, 500 E Street SW., Washington, DC 20436, Telephone: (202) 205-2000.

Status: Open to the public.

Matters to be Considered: 1. Agenda for future meetings: None.

2. Minutes.

3. Ratification List.

4. Inv. No. TA-421-6 (Market Disruption) (Circular Welded Non-Alloy Steel Pipe from China)—briefing and vote. (The Commission is scheduled to transmit its determination on market disruption to the President and the United States Trade Representative on October 3, 2005.)

5. Outstanding action jackets: None

In accordance with Commission policy, subject matter listed above, not disposed of at the scheduled meeting, may be carried over to the agenda of the following meeting.

Issued: September 22, 2005.
By order of the Commission.
Marilyn R. Abbott,
Secretary to the Commission.

[FR Doc. 05-19247 Filed 9-22-05; 11:10 am]

BILLING CODE 7020-02-P